DEPARTMENT OF HEALTH AND HUMAN SERVICES

Centers for Disease Control and Prevention

[Docket Number 139]

The Potential Modification of the NIOSH Statement of Standard for a Chemical, Biological, Radiological, and Nuclear (CBRN) Full Facepiece Air-Purifying Respirator (APR)

AGENCY: The National Institute for Occupational Safety and Health (NIOSH), Centers for Disease Control and Prevention (CDC), Department of Health and Human Services (HHS).

ACTION: Notice of document available for public comment.

SUMMARY: The National Institute for Occupational Safety and Health (NIOSH) of the Centers for Disease Control and Prevention (CDC) announces the opportunity for manufacturers and stakeholders to provide NIOSH with input on the potential modification of the NIOSH Statement of Standard for a Chemical, Biological, Radiological, and Nuclear (CBRN) Full Facepiece Air-Purifying Respirator (APR), which would permit an alternative to the single standard 40-mm screw mounted canister for the Department of Defense. Authority: Occupational Safety and Health Act, 29 U.S.C. 651 et seq.

Public Comment Period: Submit input to the NIOSH Docket Office within 120 days from June 18, 2008.

Status: Written comments may be submitted to the NIOSH Docket Office, Robert A. Taft Laboratories, 4676 Columbia Parkway, M/S C 34, CBRN APR Mechanical Connector Design, Cincinnati, Ohio 45226, telephone (513) 533-8303, Facsimile (513) 533-8285.

All material submitted should reference NIOSH Docket number 139. Comments may be e-mailed to nioshdocket@cdc.gov. All electronic comments should be formatted as Microsoft Word.

All information received in response to this notice will be available for public examination and copies available at the NIOSH Docket Office, Room 111, 4674 Colombia Parkway, Cincinnati, Ohio 45226.

Background: The National Personal Protective Technology Laboratory (NPPTL) is currently seeking stakeholder input regarding a request from the Department of Defense (DoD). The request is for a proposed modification to the CBRN APR Statement of Standard to allow for mechanical connectors other than the specified single 40-mm thread connector. The DoD is seeking modification of the standard to allow DoD first responders to use a newly developed respirator, the Joint Service General Protective Mask (JSGPM), for respiratory protection on military installations in the United States, or when called upon to support civil authorities. The JSGPM uses a bayonet mounted, dual filter design instead of the single standard 40-mm screw mounted canister. DoD's request is to supplement the existing NIOSH standard with an alternate design for DoD application. The DoD request to NIOSH for modification of the NIOSH Statement of Standard may be obtained from the NIOSH Docket Office using the contact information available above.

Because of their experiences in responding to the terrorist events of 2001, emergency responders identified the need for the interoperability of canisters and facepieces as a respirator user issue that NIOSH needed to address.

During the evolution of the CBRN Statement of Standard, NIOSH identified a single mechanical connector design requirement to support interchangeability of CBRN certified canisters and masks. The user community strongly encouraged requiring interoperable capability at all three public meetings held that discussed the requirements for the CBRN APR, and interoperability was strongly recommended in the 2002 Rand Report entitled, “Protecting Emergency Responders Lessons Learned from Terrorist Attacks.” Through a collaborative approach with multiple partnerships, applicable military and industrial technologies were integrated by NIOSH in the CBRN APR standard to provide the full range of protection needed by emergency responders.

Working with the partnerships from Federal government agencies, the private sector, and user groups, NIOSH expedited development and publication of new testing and certification standards for voluntary use by emergency responders in CBRN terrorist attacks. Information about the public meetings that discussed the conceptual requirements for the CBRN APR is available through this link: http://www.cdc.gov/niosh/npptl/standardsdev/cbrn/meetings.html.

The NIOSH Statement of Standard and supporting concept papers for the CBRN APR are available through this link: http://www.cdc.gov/niosh/npptl/standardsdev/cbrn/apr/.

Since the Standard was established in 2003, multiple models of CBRN APRs from multiple manufacturers have been certified to the Statement of Standard.

The DoD's request is to supplement the existing NIOSH standard with an alternate permissible design for DoD applications. DoD requirements for the JSGPM require availability of replacement filters in the mask carrier worn on the individual and field level logistic support for additional filters. Neither of these are requirements for commercial mask applications. For the DoD user, the advantages of the bayonet attachment on the JSGPM does not compromise the interoperability considerations for emergency responders outside of the DoD.

DoD Instruction 6055.1 indicates that in non-military unique workplaces where OSHA standards or other Federal safety standards apply but do not cover, or only partially cover, existing conditions, the DoD Components shall use appropriate national safety and occupational health consensus standards under Public Law 104-113. When there is no relevant OSHA or national consensus standard, the DoD Components may develop other protective measures to ensure the safety and health of DoD personnel. Also, the DoD Components may prescribe more stringent exposure limits or monitoring frequencies than those in the basic OSHA standards. Requesting NIOSH to include another mechanical connector design for DoD applications that may allow for NIOSH certification of the JSGPM meets this intent.

Through this announcement, NIOSH/NPPTL is seeking input from stakeholders and manufacturers to determine the following:

1. Opinions on the current design requirement for the single 40-mm thread canister mechanical connector.

2. Rationale and data to maintain the current design requirement.

3. Rationale and data to support adding an alternative design for DoD applications for canister mechanical connectors.

4. Identification of alternative approaches to implement the alternative design concept for the canister mechanical connector.

5. Other comments on the subject.

Contact Person for Technical Information: Jonathan V. Szalajda, General Engineer, National Personal Protective Technology Laboratory (NPPTL), NIOSH, CDC, telephone (412) 386-6627, E-mail zfx1@cdc.gov.

Dated: June 10, 2008.
James D. Seligman,
Chief Information Office, Centers for Disease Control and Prevention.

[FR Doc. E8-13721 Filed 6-17-08; 8:45 am]

BILLING CODE 4163-19-P